DEPARTMENT OF THE INTERIOR

National Park Service

[NPS-WASO-NAGPRA-NPS0025702; PPWOCRADN0-PCU00RP14.R50000]

Notice of Inventory Completion: University of Michigan, Ann Arbor, MI

AGENCY: National Park Service, Interior.

ACTION: Notice.

SUMMARY: The University of Michigan has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of Michigan. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Michigan at the address in this notice by August 13, 2018.

ADDRESSES: Dr. Ben Secunda, NAGPRA Project Manager, University of Michigan, Office of Research, 4080 Fleming Building, 503 South Thompson Street, Ann Arbor, MI 48109-1340, telephone (734) 647-9085, email bsecunda@umich.edu.

SUPPLEMENTARY INFORMATION: Notice is here given in accordance with the Native American Graves Protection and Repatriation Act (NAGPRA), 25 U.S.C. 3003, of the completion of an inventory of human remains under the control of the University of Michigan, Ann Arbor, MI. The human remains were removed from the Garry site (20AC19), Arenac County, MI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Michigan Museum of Anthropological Archaeology (UMMAA) professional staff in consultation with representatives of the Bay Mills Indian Community, Michigan; Chippewa Cree Indians of the Rocky Boy's Reservation, Montana (previously listed as the Chippewa-Cree Indians of the Rocky Boy's Reservation, Montana); Minnesota Chippewa Tribe, Minnesota (Six component reservations: Bois Forte Band (Nett Lake); Fond du Lac Band; Grand Portage Band; Leech Lake Band; Mille Lacs Band; White Earth Band); Saginaw Chippewa Indian Tribe of Michigan; Sault Ste. Marie Tribe of Chippewa Indians, Michigan; and Sokaogon Chippewa Community, Wisconsin (hereafter referred to as “The Consulted Tribes”).

Requests for consultation were also sent to the Bad River Band of the Lake Superior Tribe of Chippewa Indians of the Bad River Reservation, Wisconsin; Grand Traverse Band of Ottawa and Chippewa Indians, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Red Cliff Band of Lake Superior Chippewa Indians of Wisconsin; Red Lake Band of Chippewa Indians, Minnesota; St. Croix Chippewa Indians of Wisconsin; and Turtle Mountain Band of Chippewa Indians of North Dakota (hereafter referred to as “The Tribes Invited to Consult”).

History and Description of the Remains

In August of 1971, human remains representing, at minimum, one individual were removed from the Garry site (20AC19) in Arenac County, MI. Workers contacted the Michigan State Police after encountering human remains while digging a trench for a water main on private land. The human remains were taken to the State Crime Lab for analysis and subsequently transferred to the UMMAA. After analyzing the human remains, archaeologists from the UMMAA and Indiana State Museum returned to the burial site to excavate the remaining portion of the trench. The individual had been buried in a semi-prone position within a bell-shaped pit. Several Post-Contact Period objects were found in association with the burial but were transferred to the Arenac County Historical Society instead of the UMMAA. The human remains are of one adolescent, indeterminate sex, 17-18 years old. Copper staining is present on the right ulna and radius. Peri-mortem sharp force trauma, possibly from a knife or blade, on some of the human remains may be the cause of death as there is no evidence of healing from this trauma. No known individuals were identified. There are no associated funerary objects under the control of UMMAA.

The human remains have been determined to be Native American based on burial treatment and diagnostic artifacts. A relationship of shared group identity can be reasonably traced between the Native American human remains from this site and the Chippewa based on multiple lines of evidence. The associated funerary objects noted from the site are typical of the types of goods traded in the region from approximately A.D. 1760 to 1820. Additionally, according to historical records, when the burial occurred, the Chippewa were the predominant tribe in the area. This is further evinced by a treaty creating two Chippewa reservations in the vicinity of the Garry site in 1837.

Determinations Made by the University of Michigan

Officials of the University of Michigan have determined that:

• Pursuant to 25 U.S.C. 3001(9), the human remains described in this notice represent the physical remains of one individual of Native American ancestry.

• Pursuant to 25 U.S.C. 3001(2), there is a relationship of shared group identity that can be reasonably traced between the Native American human remains and The Consulted Tribes and The Tribes Invited to Consult.

Additional Requestors and Disposition

Lineal descendants or representatives of any Indian Tribe or Native Hawaiian organization not identified in this notice that wish to request transfer of control of these human remains should submit a written request with information in support of the request to Dr. Ben Secunda, NAGPRA Project Manager, University of Michigan, Office of Research, 4080 Fleming Building, 503 South Thompson Street, Ann Arbor, MI 48109-1340, telephone (734) 647-9085, email bsecunda@umich.edu, by August 13, 2018. After that date, if no additional requestors have come forward, transfer of control of the human remains to The Consulted Tribes and The Tribes Invited to Consult may proceed.

The University of Michigan is responsible for notifying The Consulted Tribes and The Tribes Invited to Consult that this notice has been published.

Dated: June 1, 2018.
Melanie O'Brien,
Manager, National NAGPRA Program.

[FR Doc. 2018-14897 Filed 7-11-18; 8:45 am]

BILLING CODE 4312-52-P